DEPARTMENT OF THE TREASURY

Office of Thrift Supervision

First Federal Bank of North Florida; Palatka, FL; Notice of Appointment of Receiver

Notice is hereby given that, pursuant to the authority contained in section 5(d)(2) of the Home Owners' Loan Act, the Office of Thrift Supervision has duly appointed the Federal Deposit Insurance Corporation as sole Receiver for First Federal Bank of North Florida, Palatka, Florida, (OTS No. 02558) on April 16, 2010.

Dated: April 20, 2010.
By the Office of Thrift Supervision.
Sandra E. Evans,
Federal Register Liaison.

[FR Doc. 2010-9474 Filed 4-22-10; 8:45 am]

BILLING CODE 6720-01-M